FEDERAL COMMUNICATIONS COMMISSION

Notice of Public Information Collection(s) Being Reviewed by the Federal Communications Commission

January 14, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before February 24, 2003. If you anticipate that you will be submitting comments, but find it difficult to do so within the period of time allowed by this notice, you should advise the contact listed below as soon as possible.

ADDRESSES: Direct all comments to Judith Boley Herman, Federal Communications Commission, Room 1-C804, 445 12th Street, SW., DC 20554 or via the Internet to jboley@fcc.gov.

FOR FURTHER INFORMATION CONTACT: For additional information or copies of the information collection(s), contact Judith Boley Herman at 202-418-0214 or via the Internet at jboley@fcc.gov.

SUPPLEMENTARY INFORMATION: OMB Control No.: 3060-0798.

Title: FCC Application for Wireless Telecommunications Bureau Radio Service Authorization.

Form Nos.: FCC Form 601.

Type of Review: Revision of a currently approved collection.

Respondents: Individuals or households, business or other for-profit, not-for-profit institutions, state, local or tribal government.

Number of Respondents: 242,555.

Estimated Time Per Response: 1.25 hours.

Frequency of Response: On occasion and every 10 years reporting requirements, third party disclosure requirement, recordkeeping requirement.

Total Annual Burden: 212,235 hours.

Total Annual Cost: $48,510,000.

Needs and Uses: The FCC Form 601 is a consolidated, multi-part application form, or “long form” that is used for general market-based licensing and site-by-site licensing in the Wireless Telecommunications Radio (WTB) Services' Universal Licensing System (ULS). The FCC Form 601 is composed of a main form that contains the administrative information and a series of schedules used for filing technical information. Respondents are encourages to file electronically. The form has been modified to adopt requirements in various Commission rulemakings. Additionally, the Commission is increasing the number of respondents for potential winners to file in upcoming auctions, thus removing the need for repetitive emergency clearances submitted to OMB due to auction related changes (additional radio services necessary for auction winners).

Federal Communications Commission.
Marlene H. Dortch,
Secretary.

[FR Doc. 03-1656 Filed 1-23-03; 8:45 am]

BILLING CODE 6712-01-P